DEPARTMENT OF HEALTH AND HUMAN SERVICES

Administration for Children and Families

Submission for OMB Review; Comment Request

Title: Head Start Program Grant Application and Budget Instrument.

OMB No.: 0970-0207.

Description: The Head Start Bureau is proposing to renew the Head Start Grant Application and Budget Instrument which standardizes the grant application information that is requested from all Head Start and Early Head Start grantees applying for continuation grants. The application and budget forms are available on a data diskette and can be transmitted electronically to Regional and Central Offices. The Administration for Children, Youth and Families believes that in promulgating this application document the process of applying for Head Start program grants is made more efficient for applicants.

Respondents: Head Start and Early Head Start grantees.

Annual Burden Estimates:

Instrument | Number of respondents | Number of responses per respondent | Average burden hours per response | Total burden hours
| 1600 | 1 | 33 | 52,800
Estimated Total Annual Burden Hours: |  |  |  | 52,800

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503. Attn: Desk Officer for ACF.

Dated: March 24, 2003.
Robert Sargis,
Reports Clearance Officer.

[FR Doc. 03-7552 Filed 3-28-03; 8:45 am]

BILLING CODE 4184-01-M